DEPARTMENT OF ENERGY

Federal Energy Regulatory Commission

Combined Notice of Filings #1

April 02, 2008.

Take notice that the Commission received the following electric corporate filings:

Docket Numbers: EC08-61-000.

Applicants: Forward Energy LLC, EFS Forward, LLC.

Description: Forward Energy LLC et al. submits an application for authorization for a transaction that would result in a change in the ownership.

Filed Date: 03/27/2008.

Accession Number: 20080331-0031.

Comment Date: 5 p.m. Eastern Time on Thursday, April 17, 2008.

Docket Numbers: EC08-62-000.

Applicants: OAO Severstal, ISG Acquisition, Inc., ISG Sparrows Point, LLC.

Description: Application for Order Under Section 203 of the Federal Power Act and Request for Waivers, Expedited Action, and Confidential Treatment.

Filed Date: 03/31/2008.

Accession Number: 20080331-5024.

Comment Date: 5 p.m. Eastern Time on Monday, April 21, 2008.

Docket Numbers: EC08-63-000.

Applicants: Granite Ridge Energy, LLC, Merrill Lynch Credit Products, LLC.

Description: Granite Ridge Energy LLC et al. submits an Application for FERC to approve the proposed transfer of equity interests in Granite Ridge.

Filed Date: 03/28/2008.

Accession Number: 20080401-0085.

Comment Date: 5 p.m. Eastern Time on Friday, April 18, 2008.

Docket Numbers: EC08-65-000.

Applicants: Southaven Power, LLC.

Description: Application for authorization for disposition of jurisdictional facilities and request for expedited action re: Southaven Power LLC.

Filed Date: 03/28/2008.

Accession Number: 20080401-0081.

Comment Date: 5 p.m. Eastern Time on Friday, April 18, 2008.

Docket Numbers: EC08-66-000.

Applicants: JPMorgan Chase & Co., Bear Stearns Companies Inc., and its Public Utility Subsidiaries.

Description: Application of JPMorgan Chase & Co & The Bears Stearns Companies Inc for authorization of certain securities and the merger of facilities subject to the jurisdiction of the Commission.

Filed Date: 03/31/2008.

Accession Number: 20080402-0066.

Comment Date: 5 p.m. Eastern Time on Monday, April 14, 2008.

Take notice that the Commission received the following exempt wholesale generator filings:

Docket Numbers: EG08-52-000.

Applicants: North Allegheny Wind, LLC.

Description: Self Certification Notice of Exempt Wholesale Generator Status for North Allegheny Wind, LLC.

Filed Date: 03/31/2008.

Accession Number: 20080331-5126.

Comment Date: 5 p.m. Eastern Time on Monday, April 21, 2008.

Docket Numbers: EG08-53-000.

Applicants: Wessington Wind I, LLC.

Description: Self Certification Notice of Wessington Wind I, LLC.

Filed Date: 04/01/2008.

Accession Number: 20080401-5218.

Comment Date: 5 p.m. Eastern Time on Tuesday, April 22, 2008.

Take notice that the Commission received the following electric rate filings:

Docket Numbers: ER91-569-039; ER02-862-010; ER01-666-010; ER91-569-040; ER01-1804-008.

Applicants: Entergy Services, Inc.; Entergy Power Ventures, L.P.; EWO Marketing, LP; Entergy Power, Inc.; Warren Power, LLC.

Description: Entergy Services Inc et al. submits revised market-based rate tariffs reflecting the new tariff requirements established in Order 697.

Filed Date: 03/31/2008.

Accession Number: 20080401-0074.

Comment Date: 5 p.m. Eastern Time on Monday, April 21, 2008.

Docket Numbers: ER02-298-004; ER08-584-001.

Applicants: Thompson River Co-Gen, LLC.

Description: Thompson River Power, LLC submits a notice of succession and a notice of change in status informing the Commission that it has succeeded to the market-based rate tariff of Thompson River Co-Gen, LLC.

Filed Date: 03/28/2008.

Accession Number: 20080401-0057.

Comment Date: 5 p.m. Eastern Time on Friday, April 18, 2008.

Docket Numbers: ER05-1511-001.

Applicants: Noble Thumb Windpark I, LLC.

Description: Noble Thumb Windpark I, LLC notifies the Commission of a non-material change in status resulting from a change in the size of the 48 MW Wind-Power Generation Project under development.

Filed Date: 03/28/2008.

Accession Number: 20080331-0160.

Comment Date: 5 p.m. Eastern Time on Friday, April 18, 2008.

Docket Numbers: ER03-534-007.

Applicants: INGENCO Wholesale Power L.L.C.

Description: Notice of Non-Material Change in Status of INGENCO Wholesale Power L.L.C.

Filed Date: 04/01/2008.

Accession Number: 20080401-5096.

Comment Date: 5 p.m. Eastern Time on Tuesday, April 22, 2008.

Docket Numbers: ER07-1372-004.

Applicants: Midwest Independent Transmission System Operator, Inc.

Description: Midwest Independent Transmission System Operator, Inc. submits Substitute Second Revised Sheet 454.01 et al. to FERC Electric Tariff, Third Revised Volume 1, in compliance with FERC's 2/25/08 Order.

Filed Date: 03/27/2008.

Accession Number: 20080331-0063.

Comment Date: 5 p.m. Eastern Time on Thursday, April 16, 2008.

Docket Numbers: ER08-149-004.

Applicants: Northeast Utilities Service Company.

Description: Supplemental Information to NUSCO's Feb. 12, 2008, Compliance Filing.

Filed Date: 04/01/2008.

Accession Number: 20080401-5161.

Comment Date: 5 p.m. Eastern Time on Tuesday, April 22, 2008.

Docket Numbers: ER08-376-001; ER08-455-001; ER08-520-001.

Applicants: PJM Interconnection, LLC.

Description: PJM Interconnection, LLC submits their compliance filing, pursuant to FERC's 3/25/08 Order.

Filed Date: 04/01/2008.

Accession Number: 20080402-0160.

Comment Date: 5 p.m. Eastern Time on Tuesday, April 08, 2008.

Docket Numbers: ER08-379-002.

Applicants: Rensselaer Cogeneration LLC.

Description: Rensselaer Cogeneration LLC submits its amended proposed market based rate tariff entitled FERC Electric Tariff Revised, Volume 1.

Filed Date: 03/31/2008.

Accession Number: 20080401-0056.

Comment Date: 5 p.m. Eastern Time on Monday, April 21, 2008.

Docket Numbers: ER08-632-001.

Applicants: DC Energy Texas, LLC.

Description: DC Energy Texas, LLC submits an Amendment to the Petition for Market-Based Rate Application filed on 3/3/08.

Filed Date: 03/27/2008.

Accession Number: 20080328-0137.

Comment Date: 5 p.m. Eastern Time on Thursday, April 17, 2008.

Docket Numbers: ER08-646-000.

Applicants: Northeast Utilities Service Company.

Description: Northeast Utilities Service Company submits a Notice of Cancellation cancelling a Service Agreement for long-term firm transmission service dated 12/23/93 and a Service Agreement for long-term non-firm transmission service dated 8/22/94, etc.

Filed Date: 03/07/2008.

Accession Number: 20080310-0183.

Comment Date: 5 p.m. Eastern Time on Wednesday, April 9, 2008.

Docket Numbers: ER08-651-002.

Applicants: Ameren Energy Marketing Company.

Description: Ameren Energy Marketing Company submits the revised final form Confirmation Agreement for the request for proposals for capacity for the planning year 6/1/08 through 5/31/09, etc.

Filed Date: 03/28/2008.

Accession Number: 20080331-0159.

Comment Date: 5 p.m. Eastern Time on Friday, April 18, 2008.

Docket Numbers: ER08-653-002.

Applicants: Union Electric Company.

Description: Union Electric Company submits the revised final form of the Confirmation Agreement for the request for proposals for capacity for the planning year 6/1/08 through 5/31/09, etc.

Filed Date: 03/28/2008.

Accession Number: 20080331-0158.

Comment Date: 5 p.m. Eastern Time on Friday, April 18, 2008.

Docket Numbers: ER08-669-001.

Applicants: American Electric Power Service Corporation.

Description: American Electric Power System submits the corrected tariff sheets and cost support reflecting reductions to Texas Central Company annual transmission rate.

Filed Date: 03/28/2008.

Accession Number: 20080331-0156.

Comment Date: 5 p.m. Eastern Time on Friday, April 18, 2008.

Docket Numbers: ER08-719-001.

Applicants: Xcel Energy Operating Companies.

Description: Twin Cities Hydro LLC submits a Certificate of Concurrence for Northern States Power Company.

Filed Date: 03/28/2008.

Accession Number: 20080331-0157.

Comment Date: 5 p.m. Eastern Time on Friday, April 18, 2008.

Docket Numbers: ER08-729-000.

Applicants: Duke Energy Carolinas, LLC.

Description: Duke Energy Carolinas, LLC submits a revised Network Integration Service Agreement for Network Integration Transmission Service with Piedmont Electric Membership Corporation.

Filed Date: 03/27/2008.

Accession Number: 20080328-0131.

Comment Date: 5 p.m. Eastern Time on Thursday, April 17, 2008.

Docket Numbers: ER08-730-000.

Applicants: Duke Energy Carolinas, LLC.

Duke Energy Carolinas, LLC submits Third Revised Rate Schedule 316, the First Amended and Restated Full Requirements Power Purchase Agreement with Piedmont Electric Membership Corp.

Filed Date: 03/27/2008.

Accession Number: 20080328-0134.

Comment Date: 5 p.m. Eastern Time on Thursday, April 17, 2008.

Docket Numbers: ER08-731-000.

Applicants: DC Energy California, LLC.

Description: DC Energy California, LLC submits the Application requests acceptance of FERC Electric Tariff, Original Volume 1 under which DCE California will engage in wholesale electric power and energy transactions as an electric power marketer etc.

Filed Date: 03/27/2008.

Accession Number: 20080328-0139.

Comment Date: 5 p.m. Eastern Time on Thursday, April 17, 2008.

Docket Numbers: ER08-732-000.

Applicants: Southwest Power Pool, Inc.

Description: Southwest Power Pool, Inc. submits its Open Access Transmission Tariff, SPP is revising several provisions of its executed external market advisor services agreement with Boston Pacific Company, Inc.

Filed Date: 03/27/2008.

Accession Number: 20080328-0138.

Comment Date: 5 p.m. Eastern Time on Thursday, April 17, 2008.

Docket Numbers: ER08-733-000.

Applicants: Pacific Gas and Electric Company.

Description: Pacific Gas and Electric Company submits the Notice of Cancellation of PG&E Rate Schedule FERC 213, the interconnection Agreement between PG&E and Turlock Irrigation District.

Filed Date: 03/28/2008.

Accession Number: 20080328-0140.

Comment Date: 5 p.m. Eastern Time on Friday, April 18, 2008.

Docket Numbers: ER08-734-000.

Applicants: Wisconsin Power and Light Company.

Description: Wisconsin Power and Light Company submits a Notice of Cancellation of Original Service Agreement 8 with the City of Evansville.

Filed Date: 03/28/2008.

Accession Number: 20080331-0054.

Comment Date: 5 p.m. Eastern Time on Friday, April 18, 2008.

Docket Numbers: ER08-735-000.

Applicants: Wisconsin Power and Light Company.

Description: Wisconsin Power and Light Company submits a Notice of Cancellation of Original Service Agreement 6 with Wisconsin Public Power Inc.

Filed Date: 03/28/2008.

Accession Number: 20080331-0055.

Comment Date: 5 p.m. Eastern Time on Friday, April 18, 2008.

Docket Numbers: ER08-736-000.

Applicants: Wisconsin Power and Light Company.

Description: Wisconsin Power and Light Company submits a Notice of Cancellation of Original Service Agreement 20 with Wisconsin Public Power Inc.

Filed Date: 03/28/2008.

Accession Number: 20080331-0057.

Comment Date: 5 p.m. Eastern Time on Friday, April 18, 2008.

Docket Numbers: ER08-737-000.

Applicants: Wisconsin Power and Light Company.

Description: Wisconsin Power and Light Company submits a Notice of Cancellation of Original Service Agreement 14 with Village of Mt. Horeb.

Filed Date: 03/28/2008.

Accession Number: 20080331-0056.

Comment Date: 5 p.m. Eastern Time on Friday, April 18, 2008.

Docket Numbers: ER08-738-000.

Applicants: Wisconsin Power and Light Company.

Description: Wisconsin Power and Light Company submits a Notice of Cancellation of Original Service Agreement 15 with Wisconsin Public Power Inc.

Filed Date: 03/28/2008.

Accession Number: 20080331-0058.

Comment Date: 5 p.m. Eastern Time on Friday, April 18, 2008.

Docket Numbers: ER08-739-000.

Applicants: Appalachian Power Company.

Description: American Electric Power Company Inc. submits First Revised Sheet 13 et al. to FERC Rate Schedule 151.

Filed Date: 03/28/2008.

Accession Number: 20080331-0059.

Comment Date: 5 p.m. Eastern Time on Friday, April 18, 2008.

Docket Numbers: ER08-740-000.

Applicants: Appalachian Power Company.

Description: Appalachian Power Company submits a Cost-Based Formula Rate Agreement—Rate Schedule 157 for Full Requirements Electric Service dated 03/26/07 with Kingsport Power Company.

Filed Date: 03/28/2008.

Accession Number: 20080331-0060.

Comment Date: 5 p.m. Eastern Time on Friday, April 18, 2008.

Docket Numbers: ER08-741-000.

Applicants: Southern California Edison Company.

Description: Southern California Edison Company submits a Letter Agreement for Services to Replace the Remote Terminal Unit at TM Goodrich Receiving Station between City of Pasadena.

Filed Date: 03/28/2008.

Accession Number: 20080331-0155.

Comment Date: 5 p.m. Eastern Time on Friday, April 18, 2008.

Docket Numbers: ER08-742-000.

Applicants: El Paso Electric Company.

Description: El Paso Electric Company submits an unexecuted cost-based formula rate Power Sales Agreement for Full Requirements Wholesale Electric Service with Rio Grande Electric Cooperative Inc.

Filed Date: 03/28/2008.

Accession Number: 20080401-0079.

Comment Date: 5 p.m. Eastern Time on Friday, April 18, 2008.

Docket Numbers: ER08-742-001.

Applicants: El Paso Electric Company.

Description: El Paso Electric Company submits an unexecuted cost-based formula rate Power Sales Agreement for Full Requirements Wholesale Electric Service between EPE and Rio Grande Electric Cooperative Inc.

Filed Date: 03/31/2008.

Accession Number: 20080401-0061.

Comment Date: 5 p.m. Eastern Time on Monday, April 21, 2008.

Docket Numbers: ER08-743-000.

Applicants: Southwest Power Pool, Inc.

Description: Southwest Power Pool Inc. submits revised pages to its Open Access Transmission Tariff or intended to implement a rate change for Westar Energy, Inc., which is a transmission owner and pricing zone under the SPP tariff.

Filed Date: 03/28/2008.

Accession Number: 20080401-0064.

Comment Date: 5 p.m. Eastern Time on Friday, April 18, 2008.

Docket Numbers: ER08-744-000.

Applicants: PJM Interconnection, L.L.C.

Description: PJM Interconnection LLC submits revisions to the PJM Open Access Transmission Tariff and Amended and Restated Operating Agreement.

Filed Date: 03/28/2008.

Accession Number: 20080401-0065.

Comment Date: 5 p.m. Eastern Time on Friday, April 18, 2008.

Docket Numbers: ER08-746-000.

Applicants: Southwest Power Pool.

Description: Southwest Power Pool, Inc. submits a proposal to revise its OATT.

Filed Date: 03/28/2008.

Accession Number: 20080401-0095.

Comment Date: 5 p.m. Eastern Time on Friday, April 18, 2008.

Docket Numbers: ER08-748-000.

Applicants: Public Service Electric and Gas Company; PSEG Energy Resources & Trade LLC.

Description: Public Service Electric and Gas Co et al. submit a request for waivers of affiliate standards and authorizations for sales etc.

Filed Date: 03/31/2008.

Accession Number: 20080331-4009; 20080401-0093.

Comment Date: 5 p.m. Eastern Time on Monday, April 21, 2008.

Docket Numbers: ER08-749-000.

Applicants: Xcel Energy; Southwestern Public Service Company.

Description: Southwestern Public Service Company submits increased rates, to be effective 6/1/08, applicable to service to the wholesale full requirements customers etc.

Filed Date: 04/02/2008.

Accession Number: 20080402-0062.

Comment Date: 5 p.m. Eastern Time on Wednesday, April 23, 2008.

Docket Numbers: ER08-753-000.

Applicants: El Paso Electric Company.

Description: El Paso Electric Company submits a Network Operating Agreement executed with Rio Grande Electric Cooperative, Inc.

Filed Date: 03/28/2008.

Accession Number: 20080401-0060.

Comment Date: 5 p.m. Eastern Time on Friday, April 18, 2008.

Docket Numbers: ER08-754-000.

Applicants: The American Electric Power Service Corp.

Description: American Electric Power Service Corporation submits a Notice of Cancellation of Service Agreements under CSW Operating Companies Second Substitute FERC Electric Tariff, Original Volume 8.

Filed Date: 03/31/2008.

Accession Number: 20080401-0063.

Comment Date: 5 p.m. Eastern Time on Monday, April 21, 2008.

Docket Numbers: ER08-756-000.

Applicants: Southern Company Services, Inc.

Description: Southern Company Services, Inc. on behalf of Alabama Power Company et al. submits Transmission Facility Cost Allocation Tariff and Pro Forma Service Agreement.

Filed Date: 03/28/2008.

Accession Number: 20080401-0059.

Comment Date: 5 p.m. Eastern Time on Friday, April 18, 2008.

Docket Numbers: ER08-757-000.

Applicants: The American Electric Power Service Corp.

Description: American Electric Power Service Corporation submits Notice of Cancellation of Service Agreements under American Electric Power Service Corporation's FERC Electric Tariff, First Revised Volume 2, effective 3/31/08.

Filed Date: 03/31/2008.

Accession Number: 20080401-0062.

Comment Date: 5 p.m. Eastern Time on Monday, April 21, 2008.

Docket Numbers: ER08-758-000.

Applicants: The American Electric Power Service Corp.

Description: American Electric Power Company Inc. submits Notice of Cancellation of Service Agreements under American Electric Power Service Corporation's FERC Electric Tariff, Original Volume 5.

Filed Date: 03/31/2008.

Accession Number: 20080401-0066.

Comment Date: 5 p.m. Eastern Time on Monday, April 21, 2008.

Docket Numbers: ER08-759-000.

Applicants: San Diego Gas & Electric Company.

Description: San Diego Gas & Electric Company submits changes in the rates set forth in its Transmission Owner Tariff.

Filed Date: 03/28/2008.

Accession Number: 20080401-0058.

Comment Date: 5 p.m. Eastern Time on Friday, April 18, 2008.

Docket Numbers: ER08-760-000.

Applicants: California Independent System Operator Corporation.

Description: California Independent System Operator Corporation submits proposed amendments to the ISO Tariff to implement a Transitional Capacity Procurement Mechanism.

Filed Date: 03/28/2008.

Accession Number: 20080401-0080.

Comment Date: 5 p.m. Eastern Time on Friday, April 18, 2008.

Docket Numbers: ER08-761-000.

Applicants: Carolina Power & Light Company.

Description: Carolina Power & Light Company doing business as Progress Energy Carolinas, Inc. submits a Power Sales Agreement between PEC and North Carolina Electric membership Corporation, Rate Schedule FERC 179, etc.

Filed Date: 03/31/2008.

Accession Number: 20080401-0055.

Comment Date: 5 p.m. Eastern Time on Monday, April 21, 2008.

Take notice that the Commission received the following electric securities filings:

Docket Numbers: ES08-39-000.

Applicants: Allegheny Generating Company; Monongahela Power Company; West Penn Power Company; The Potomac Edison Company.

Description: Joint Application Under Section 204 of the Federal Power Act for Authorization Under Section 204(A) to Issue Short-Term Debt in Connection with the Allegheny Money Pool by Monongahela Power Company, et al.

Filed Date: 04/01/2008.

Accession Number: 20080402-5009.

Comment Date: 5 p.m. Eastern Time on Tuesday, April 22, 2008.

Docket Numbers: ES08-40-000.

Applicants: Golden Spread Cooperative, Inc.

Description: Application of Golden Spread Electric Cooperative, Inc., for Authorization to Issue Securities.

Filed Date: 04/01/2008.

Accession Number: 20080402-5011.

Comment Date: 5 p.m. Eastern Time on Tuesday, April 22, 2008.

Take notice that the Commission received the following open access transmission tariff filings:

Docket Numbers: OA07-28-002.

Applicants: Avista Corporation.

Description: Avista Corporation's Compliance Filing.

Filed Date: 04/01/2008.

Accession Number: 20080401-5106.

Comment Date: 5 p.m. Eastern Time on Tuesday, April 22, 2008.

Docket Numbers: OA07-44-003.

Applicants: El Paso Electric Company.

Description: El Paso Electric Company submit an Annual Compliance Report as required by order Nos. 890 and 890-A.

Filed Date: 04/01/2008.

Accession Number: 20080401-5176.

Comment Date: 5 p.m. Eastern Time on Tuesday, April 22, 2008.

Docket Numbers: OA07-53-002; OA08-67-002.

Applicants: Progress Energy, Inc.

Description: Correction Filing supplements March 3, 2008, compliance filing by Progress Energy, Inc., on behalf of Carolina Power & Light Co. and Florida Power Corp.

Filed Date: 03/31/2008.

Accession Number: 20080331-5074.

Comment Date: 5 p.m. Eastern Time on Monday, April 21, 2008.

Docket Numbers: OA07-104-001.

Applicants: Maine Public Service Company.

Description: Maine Public Service Company submits Substitute First Revised Sheet 163 et al. to FERC Electric Tariff, 1st Revised Volume 4, in compliance with the Commission's 2/25/08 Letter Order.

Filed Date: 03/26/2008.

Accession Number: 20080328-0122.

Comment Date: 5 p.m. Eastern Time on Wednesday, April 16, 2008.

Docket Numbers: OA08-63-000.

Applicants: Ohio Valley Electric Corporation.

Description: Order No. 890-A OATT Filing of Ohio Valley Electric Corporation.

Filed Date: 03/14/2008.

Accession Number: 20080314-5084.

Comment Date: 5 p.m. Eastern Time on Wednesday, April 09, 2008.

Docket Numbers: OA08-78-001.

Applicants: MidAmerican Energy Company.

Description: Errata to Order No. 890-A Implementation Filing.

Filed Date: 03/31/2008.

Accession Number: 20080401-5132.

Comment Date: 5 p.m. Eastern Time on Monday, April 21, 2008.

Docket Numbers: OA08-93-001.

Applicants: South Carolina Electric & Gas Company.

Description: Redline Tariff of South Carolina Electric & Gas Company.

Filed Date: 03/27/2008.

Accession Number: 20080328-5122.

Comment Date: 5 p.m. Eastern Time on Thursday, April 17, 2008.

Docket Numbers: OA08-96-000.

Applicants: Southern Company.

Description: Order No. 890 compliance filing of Southern Company's proposing mechanisms for the distribution of penalty revenues.

Filed Date: 04/01/2008.

Accession Number: 20080401-5172.

Comment Date: 5 p.m. Eastern Time on Tuesday, April 22, 2008.

Docket Numbers: OA08-97-000.

Applicants: MidAmerican Energy Company.

Description: Order Nos. 890 and 890-A Implementation Filing of MidAmerican Energy Company.

Filed Date: 04/01/2008.

Accession Number: 20080402-5035.

Comment Date: 5 p.m. Eastern Time on Tuesday, April 22, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-7421 Filed 4-8-08; 8:45 am]

BILLING CODE 6717-01-P